FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. Copies of the agreement are available through the Commission's Web site (www.fmc.gov) or by contacting the Office of Agreements at (202) 523-5793 or tradeanalysis@fmc.gov.

Agreement No.: 012190.

Title: HSDG-GWF Space Charter Agreement.

Parties: Hamburg Sud and Great White Fleet Liner Services Ltd.

Filing Party: Wayne R. Rohde, Esq.; Cozen O'Connor; 1627 I Street NW., Suite 1100, Washington, DC 20006-4007.

Synopsis: The agreement authorizes Hamburg Sud to charter space to Great White Fleet in the trade between ports in California and ports in Guatemala, Panama, Ecuador, and Peru.

Dated: November 26, 2012.
By Order of the Federal Maritime Commission.
Rachel Dickon,
Assistant Secretary.

[FR Doc. 2012-28921 Filed 11-28-12; 8:45 am]

BILLING CODE 6730-01-P